DEPARTMENT OF ENERGY

Federal Energy Regulatory Commission

Combined Notice of Filings #1

Take notice that the Commission received the following electric corporate filings:

Docket Numbers: EC21-109-000.

Applicants: Inspire Energy Holdings, LLC.

Description: Application for Authorization Under Section 203 of the Federal Power Act of Inspire Energy Holdings, LLC.

Filed Date: 7/28/21.

Accession Number: 20210728-5194.

Comments Due: 5 p.m. ET 8/18/21.

Take notice that the Commission received the following electric rate filings:

Docket Numbers: ER21-2139-001.

Applicants: Florida Power & Light Company.

Description: Tariff Amendment: Amendment to FPL & Seminole NITSA No. 162 New Delivery Point to be effective 7/1/2021.

Filed Date: 6/16/21.

Accession Number: 20210616-5095.

Comments Due: 5 p.m. ET 7/30/21.

Docket Numbers: ER21-2513-001.

Applicants: Golden Spread Electric Cooperative, Inc.

Description: Compliance filing: Errata to Order No. 676-I Compliance and Waiver to be effective 12/31/9998.

Filed Date: 7/29/21.

Accession Number: 20210729-5087.

Comments Due: 5 p.m. ET 8/19/21.

Docket Numbers: ER21-2540-000.

Applicants: San Diego Gas & Electric Company.

Description: § 205(d) Rate Filing: Revisions to Appendices VII and IX for Retail Rate Design to be effective 1/1/2022.

Filed Date: 7/29/21.

Accession Number: 20210729-5001.

Comments Due: 5 p.m. ET 8/19/21.

Docket Numbers: ER21-2541-000.

Applicants: Gulf Power Company.

Description: Request for continued Limited Waiver of Gulf Power Company.

Filed Date: 7/27/21.

Accession Number: 20210727-5176.

Comments Due: 5 p.m. ET 8/17/21.

Docket Numbers: ER21-2542-000.

Applicants: Southwest Power Pool, Inc.

Description: § 205(d) Rate Filing: 3340R1 Otter Tail Power Company NITSA and NOA to be effective 7/1/2021.

Filed Date: 7/29/21.

Accession Number: 20210729-5004.

Comments Due: 5 p.m. ET 8/19/21.

Docket Numbers: ER21-2543-000.

Applicants: PJM Interconnection, L.L.C.

Description: § 205(d) Rate Filing: Original WMPA, Service Agreement No. 6129; Queue No. AF1-287 to be effective 6/29/2021.

Filed Date: 7/29/21.

Accession Number: 20210729-5008.

Comments Due: 5 p.m. ET 8/19/21.

Docket Numbers: ER21-2544-000.

Applicants: Southwest Power Pool, Inc.

Description: § 205(d) Rate Filing: 1266R12 Kansas Municipal Energy Agency NITSA and NOA to be effective 7/1/2021.

Filed Date: 7/29/21.

Accession Number: 20210729-5026.

Comments Due: 5 p.m. ET 8/19/21.

Docket Numbers: ER21-2545-000.

Applicants: Tri-State Generation and Transmission Association, Inc.

Description: § 205(d) Rate Filing: Rate Schedule FERC No. 332 between Tri-State and Continental to be effective 7/30/2021.

Filed Date: 7/29/21.

Accession Number: 20210729-5037.

Comments Due: 5 p.m. ET 8/19/21.

Docket Numbers: ER21-2546-000.

Applicants: Rochester Gas and Electric Corporation, New York Independent System Operator, Inc.

Description: § 205(d) Rate Filing: Joint 205 EPCA among NYISO, RG&E, NextEra for Empire State Line SA2635, CEII to be effective 7/15/2021.

Filed Date: 7/29/21.

Accession Number: 20210729-5052.

Comments Due: 5 p.m. ET 8/19/21.

Docket Numbers: ER21-2547-000.

Applicants: AEP Texas Inc.

Description: § 205(d) Rate Filing: AEPTX-AP Solar 4 (Charger Solar) 1st A&R Generation Interconnection Agreement to be effective 7/13/2021.

Filed Date: 7/29/21.

Accession Number: 20210729-5054.

Comments Due: 5 p.m. ET 8/19/21.

Docket Numbers: ER21-2548-000.

Applicants: ISO New England Inc., New England Power Company.

Description: § 205(d) Rate Filing: ISO-NE and NEP: First Revised Service Agreement No. LGIA-ISONE/NEP-15-04 to be effective 3/19/2021.

Filed Date: 7/29/21.

Accession Number: 20210729-5055.

Comments Due: 5 p.m. ET 8/19/21.

Docket Numbers: ER21-2549-000.

Applicants: DDP Specialty Electronic Materials US, Inc.

Description: Compliance filing: Rate Schedule No. 1 Market Based Rate Tariff to be effective 1/4/2021.

Filed Date: 7/29/21.

Accession Number: 20210729-5064.

Comments Due: 5 p.m. ET 8/19/21.

Docket Numbers: ER21-2550-000.

Applicants: Specialty Products US, LLC.

Description: Compliance filing: Rate Schedule No. 1 Market Based Rate Tariff to be effective 1/4/2021.

Filed Date: 7/29/21.

Accession Number: 20210729-5065.

Comments Due: 5 p.m. ET 8/19/21.

Docket Numbers: ER21-2551-000.

Applicants: NorthWestern Corporation.

Description: Tariff Cancellation: Cancellation of SA 305 16th Rev—NITSA with Stillwater Mining Company to be effective 8/1/2021.

Filed Date: 7/29/21.

Accession Number: 20210729-5069.

Comments Due: 5 p.m. ET 8/19/21.

Docket Numbers: ER21-2552-000.

Applicants: PacifiCorp.

Description: § 205(d) Rate Filing: ESM Const Agmt Castle Solar to be effective 7/30/2021.

Filed Date: 7/29/21.

Accession Number: 20210729-5072.

Comments Due: 5 p.m. ET 8/19/21.

Docket Numbers: ER21-2553-000.

Applicants: Entergy Texas, Inc.

Description: § 205(d) Rate Filing: ETI-ETEC Wholesale Distribution Service Agreement to be effective 8/1/2021.

Filed Date: 7/29/21.

Accession Number: 20210729-5092.

Comments Due: 5 p.m. ET 8/19/21.

Docket Numbers: ER21-2554-000.

Applicants: PJM Interconnection, L.L.C.

Description: § 205(d) Rate Filing: Amendment to ISA, Service Agreement No. 5995; Queue No. AD2-160/AE2-253 to be effective 3/3/2021.

Filed Date: 7/29/21.

Accession Number: 20210729-5093.

Comments Due: 5 p.m. ET 8/19/21.

Docket Numbers: ER21-2555-000.

Applicants: Martinsville OnSite Generation, LLC.

Description: Baseline eTariff Filing: MBR Tariff Authority to be effective 10/1/2021.

Filed Date: 7/29/21.

Accession Number: 20210729-5098.

Comments Due: 5 p.m. ET 8/19/21.

Take notice that the Commission received the following qualifying facility filings:

Docket Numbers: QF21-1095-000.

Applicants: Generate Colchester Fuel Cells, LLC.

Description: Form 556 of Generate Colchester Fuel Cells, LLC.

Filed Date: 7/29/21.

Accession Number: 20210729-5042.

Comments Due: 5 p.m. ET 8/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2021.
Debbie-Anne A. Reese,
Deputy Secretary.

[FR Doc. 2021-16601 Filed 8-3-21; 8:45 am]

BILLING CODE 6717-01-P